DEPARTMENT OF TRANSPORTATION

Federal Aviation Administration

14 CFR Part 71

[Docket No. FAA-2014-0713; Airspace Docket No. 14-AWA-1]

RIN 2120-AA66

Amendment of Class B Airspace; Washington Tri-Area, DC

AGENCY: Federal Aviation Administration (FAA), DOT.

ACTION: Final rule; technical amendment.

SUMMARY: This action amends the description of Area D of the Washington Tri-Area Class B airspace area to include exclusion of restricted area R-4001C from the Class B airspace when the restricted area is active. The remainder of the Class B description is not affected by this change.

DATES: Effective date: 0901 UTC September 26, 2014. The Director of the Federal Register approves this incorporation by reference action under 1 CFR part 51, subject to the annual revision of FAA Order 7400.9 and publication of conforming amendments.

ADDRESSES: FAA Order 7400.9Y, Airspace Designations and Reporting Points, and subsequent amendments can be viewed online at http://www.faa.gov/air_traffic/publications/. The Order is also available for inspection at the National Archives and Records Administration (NARA). For information on the availability of this material at NARA, call 202-741-6030 or go to http://archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Paul Gallant, Airspace Policy and Regulations Group, Office of Airspace Services, Federal Aviation Administration, 800 Independence Avenue SW., Washington, DC 20591; telephone: (202) 267-8783.

SUPPLEMENTARY INFORMATION:

Background

On May 23, 2014, the FAA published a final rule establishing restricted area R-4001C at Aberdeen Proving Ground, MD (79 FR 29661). R-4001C was formed by further subdividing small sections of existing restricted areas R-4001A and R-4001B that currently extend into Area D of the Washington, DC, Tri-Area Class B airspace area. The description of Area D excludes the airspace in restricted areas R-4001A and B from the Class B airspace. This change simply updates that description to add R-4001C (which is imbedded within R-4001A and R-4001B) to the exclusionary language. Aeronautical charts have been updated to reflect this information.

The Rule

The FAA is amending Title 14 Code of Federal Regulations (14 CFR) part 71 to update the description of Area D in the Washington Tri-Area Class B airspace area. This action excludes the airspace in restricted area R-4001C from the Class B airspace during times when the restricted area is activated. The remainder of the Class B airspace description is unchanged by this action.

Because this is an editorial change to reflect current restricted area subdivisions, I find that notice and public procedure under 5 U.S.C. 553(b) is unnecessary and contrary to the public interest. Also, because moored balloons contained in the area are airborne 24 hours per day (except for maintenance or weather conditions) there is a need to separate nonparticipating aircraft from a hazard to navigation, therefore, the FAA finds good cause, pursuant to 5 U.S.C. 553(d), for making this amendment effective in less than 30 days in order to promote the safe and efficient handling of air traffic in the area.

Class B airspace areas are published in paragraph 3000 of FAA Order 7400.9Y dated August 6, 2014, and effective September 15, 2014, which is incorporated by reference in 14 CFR 71.1. The Class B airspace area listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it makes editorial corrections to an existing Class B airspace description to maintain accuracy.

Environmental Review

The FAA has determined that this action qualifies for categorical exclusion under the National Environmental Policy Act in accordance with 311a, FAA Order 1050.1E, “Environmental Impacts: Policies and Procedures.” This airspace action is an editorial change only and is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 3000 Subpart B—Class B Airspace

* * * * *

AEA DC B—Washington Tri-Area, DC [Amended]

Boundaries.

By removing the current Area D description and adding the following in its place:

Area D. That airspace extending upward from 3,500 feet MSL to and including 10,000 feet MSL between the 15-mile radius and the 20-mile radius of the Andrews VORTAC, the Washington VOR/DME, and the Baltimore VORTAC beginning at lat. 38°40′21″ N., long. 76°28′36″ W., to lat. 39°02′10″ N., long. 76°16′11″ W., then counterclockwise along the 20-mile DME arc of the Baltimore VORTAC to lat. 39°21′20″ N., long. 77°01′08″ W., to lat. 39°16′32″ N., long. 77°20′50″ W., to lat. 39°08′59″ N., long. 77°18′10″ W., then clockwise along the 15-mile DME arc of the Armel VORTAC to lat. 39°04′27″ N., long. 77°12′04″ W., then clockwise along the 15-mile DME arc of the Washington VOR/DME to lat. 39°06′16″ N., long. 76°58′16″ W., then clockwise along the 15-mile DME arc of the Baltimore VORTAC to lat. 38°55′40″ N., long. 76°35′10″ W., then clockwise along the 15-mile DME arc of the Andrews VORTAC to lat. 38°36′36″ N., long. 77°03′47″ W., then clockwise along the 15-mile DME arc of the Washington VOR/DME to lat. 38°43′12″ N., long. 77°18′07″ W., then clockwise along the 15-mile DME arc of the Armel VORTAC to lat. 38°42′47″ N., long. 77°19′05″ W., to lat. 38°36′42″ N., long. 77°19′18″ W., then counterclockwise along the 20-mile DME arc of the Washington VOR/DME to lat. 38°31′47″ N., long. 77°06′10″ W., then counterclockwise along the 20-mile DME arc of the Andrews VORTAC to the point of beginning; excluding the airspace contained in Restricted Areas R-4001A, R-4001B and R-4001C when active.

Issued in Washington, DC, on September 18, 2014.
Colby Abbott,
Acting Manager, Airspace Policy and Regulations Group.

[FR Doc. 2014-22854 Filed 9-25-14; 8:45 am]

BILLING CODE 4910-13-P